DEPARTMENT OF THE INTERIOR

Fish and Wildlife Service

[FWS-R2-ES-2013-N139; FXES11130200000-134-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before September 27, 2013.

ADDRESSES: Marty Tuegel, Section 10 Coordinator, by U.S. mail at Division of Endangered Species, U.S. Fish and Wildlife Service, P.O. Box 1306, Room 6034, Albuquerque, NM at 505-248-6920. Please refer to the respective permit number for each application when submitting comments.

FOR FURTHER INFORMATION CONTACT: Susan Jacobsen, Chief, Endangered Species Division, P.O. Box 1306, Albuquerque, NM 87103; 505-248-6651.

SUPPLEMENTARY INFORMATION:

Public Availability of Comments

The Act (16 U.S.C. 1531 et seq.) prohibits activities with endangered and threatened species unless a Federal permit allows such activities. Along with our implementing regulations in the Code of Federal Regulations (CFR) at 50 CFR 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-00284A

Applicant: Stephanie Rainwater, Collinsville, Oklahoma.

Applicant requests a renewal to a current permit for research and recovery purposes to conduct presence/absence surveys, trap and relocate activities and other research activities for the American burying beetle (Nicrophorus americanus) within Arkansas, Kansas, Ohio, Oklahoma, South Dakota, and Texas.

Permit TE-08339B

Applicant: U.S. Forest Service, Apache-Sitgreaves National Forest, Springerville, Arizona.

Applicant requests a new permit for research and recovery purposes to conduct presence/absence surveys and monitoring of the following species in Arizona:

• Gila chub (Gila intermedia)

• Loach minnow (Tiaroga cobitis)

• Mexican gray wolf (Canis lupus baileyi)

• Razorback sucker (Xyrauchen texanus)

• Southwestern willow flycatcher (Empidonax traillii extimus)

• Spikedace (Meda fulgida)

• Three Forks springsnail (Pyrgulopsis trivialis)

Permit TE-676811

Applicant: U.S. Fish and Wildlife Service-Region 2, Albuquerque, New Mexico.

Applicant requests an amendment to a current permit for research and recovery purposes to conduct presence/absence surveys and recovery activities on seven endangered invertebrates within Arizona and Texas:

• Three Forks springsnail (Pyrgulopsis trivialis)

• Phantom springsnail (Pyrgulopsis texana)

• Diamond Tryonia (Pseudotryonia adamantina)

• Gonzales Tryonia (Tryonia circumstriata)

• Phantom Tryonia (Tryonia cheatumi)

• Diminutive amphipod (Gammarus hyalleloides)

• Pecos amphipod (Gammarus pecos)

Permit TE-94766A

Applicant: Carmen Greenwood, Oklahoma State University, Stillwater, Oklahoma.

Applicant requests an amendment to a current permit for research and recovery purposes to conduct presence/absence surveys of American burying beetle (Nicrophorus americanus) within Kentucky and Arkansas.

Permit TE-004439

Applicant: Albuquerque BioPark, Albuquerque, New Mexico.

Applicant requests an amendment to a current permit for research and recovery purposes to conduct husbandry and holding of loach minnow (Tiaroga cobitis) and spikedace (Meda fulgida) at the BioPark in Albuquerque, New Mexico.

Permit TE-819473

Applicant: Grand Canyon National Park, Grand Canyon, Arizona.

Applicant requests a renewal to a current permit for research and recovery purposes to conduct presence/absence surveys of the following animal species and seed collection for the following plant species in Arizona:

• California condor (Gymnogyps californianus)

• Humpback chub (Gila cypha)

• Razorback sucker (Xyrauchen texanus)

• Sentry milk-vetch (Astragalus cremnophylax var. cremnophylax)

• Southwestern willow flycatcher (Empinodax traillii extimus)

Permit TE-045236

Applicant: SWCA, Inc., Albuquerque, New Mexico.

Applicant requests an amendment to a current permit for research and recovery purposes to conduct presence/absence surveys of American burying beetle (Nicrophorus americanus) within Arkansas, Nebraska, Oklahoma, and Texas.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: August 15, 2013.
Benjamin N. Tuggle,
Regional Director, Southwest Region.

[FR Doc. 2013-20966 Filed 8-27-13; 8:45 am]

BILLING CODE 4310-55-P